DEPARTMENT OF ENERGY

Federal Energy Regulatory Commission

Combined Notice of Filings #1

Take notice that the Commission received the following exempt wholesale generator filings:

Docket Numbers: EG12-106-000.

Applicants: Limon Wind, LLC.

Description: Notice of Self-Certification of Exempt Wholesale Generator Status of Limon Wind, LLC.

Filed Date: 8/30/12.

Accession Number: 20120830-5144.

Comments Due: 5 p.m. ET 9/20/12.

Docket Numbers: EG12-107-000.

Applicants: Limon Wind II, LLC.

Description: Notice of Self-Certification of Exempt Wholesale Generator Status of Limon Wind II, LLC.

Filed Date: 8/30/12.

Accession Number: 20120830-5150.

Comments Due: 5 p.m. ET 9/20/12.

Take notice that the Commission received the following electric rate filings:

Docket Numbers: ER12-1785-001.

Applicants: California Independent System Operator Corporation.

Description: 2012-08-31 CAISO Filing in Compliance with August 1, 2012 Order to be effective 4/30/2012.

Filed Date: 8/31/12.

Accession Number: 20120831-5073.

Comments Due: 5 p.m. ET 9/21/12.

Docket Numbers: ER12-2145-000.

Applicants: EC&R O&M LLC.

Description: Supplemental Information of EC&R O&M LLC.

Filed Date: 8/31/12.

Accession Number: 20120831-5171.

Comments Due: 5 p.m. ET 9/10/12.

Docket Numbers: ER12-2258-001.

Applicants: Midwest Independent Transmission System Operator, Inc.

Description: SA 2456 Emmet County Energy-ITC Midwest GIA Amend to be effective 7/19/2012.

Filed Date: 8/31/12.

Accession Number: 20120831-5065.

Comments Due: 5 p.m. ET 9/21/12.

Docket Numbers: ER12-2259-001.

Applicants: Midwest Independent Transmission System Operator, Inc.

Description: SA 1902 Harvest Wind Farm-ITC Midwest GIA Amend to be effective 7/19/2012.

Filed Date: 8/31/12.

Accession Number: 20120831-5067.

Comments Due: 5 p.m. ET 9/21/12.

Docket Numbers: ER12-2277-001.

Applicants: Midwest Independent Transmission System Operator, Inc.

Description: SA 2457 Pheasant Ridge Wind Farm-ITC Midwest GIA Amend to be effective 7/21/2012.

Filed Date: 8/31/12.

Accession Number: 20120831-5069.

Comments Due: 5 p.m. ET 9/21/12.

Docket Numbers: ER12-2552-000.

Applicants: California Independent System Operator Corporation.

Description: 2012-08-30 CAISO Management Approval of Construction Projects Under $50 M to be effective 10/30/2012.

Filed Date: 8/30/12.

Accession Number: 20120830-5143.

Comments Due: 5 p.m. ET 9/20/12.

Docket Numbers: ER12-2553-000.

Applicants: PacifiCorp.

Description: BPA Two-way Operations and Maintenance Agreement—Revised to be effective 10/30/2012.

Filed Date: 8/30/12.

Accession Number: 20120830-5168.

Comments Due: 5 p.m. ET 9/20/12.

Docket Numbers: ER12-2554-000.

Applicants: Transource Missouri, LLC.

Description: Transource Missouri, LLC's 205 filing to establish an incentive formula rate to be effective 10/30/2012.

Filed Date: 8/31/12.

Accession Number: 20120831-5095.

Comments Due: 5 p.m. ET 9/21/12.

Docket Numbers: ER12-2555-000.

Applicants: Wisconsin Public Service Corporation.

Description: Metering Agent Agreement between WPSC, UPPCO and Ontonagon to be effective 11/1/2012.

Filed Date: 8/31/12.

Accession Number: 20120831-5096.

Comments Due: 5 p.m. ET 9/21/12.

Docket Numbers: ER12-2556-000.

Applicants: Wisconsin Power and Light Company.

Description: WPL Revisions to Rate Schedule W-2A and W-3A Wholesale Formula Rates to be effective 10/31/2012.

Filed Date: 8/31/12.

Accession Number: 20120831-5124.

Comments Due: 5 p.m. ET 9/21/12.

Docket Numbers: ER12-2557-000.

Applicants: Tampa Electric Company.

Description: Tampa Electric Rate Schedules—Baseline Filing to be effective 8/31/2012.

Filed Date: 8/31/12.

Accession Number: 20120831-5140.

Comments Due: 5 p.m. ET 9/21/12.

Docket Numbers: ER12-2558-000.

Applicants: Ri-Corp. Development, Inc.

Description: Notice of Succession to be effective 9/1/2012.

Filed Date: 8/31/12.

Accession Number: 20120831-5141.

Comments Due: 5 p.m. ET 9/21/12.

Docket Numbers: ER12-2559-000.

Applicants: Tampa Electric Company.

Description: Tampa Electric Company submits tariff filing per 35.13(a)(2)(iii: First Revised Rate Schedule No. 63 with First Amendment to be effective 8/31/2012.

Filed Date: 8/31/12.

Accession Number: 20120831-5161.

Comments Due: 5 p.m. ET 9/21/12.

Take notice that the Commission received the following electric securities filings:

Docket Numbers: ES12-52-000.

Applicants: MDU Resources Group, Inc.

Description: Application of MDU Resources Group, Inc. for authority to issue up to $1 billion various securities for 2012-2014.

Filed Date: 8/30/12.

Accession Number: 20120830-5185.

Comments Due: 5 p.m. ET 9/20/12.

Docket Numbers: ES12-53-000.

Applicants: South Carolina Electric & Gas Company, South Carolina Generating Company, Inc.

Description: Application for Authorization under Federal Power Act section 204 for South Carolina Electric & Gas Company et al.

Filed Date: 8/30/12.

Accession Number: 20120830-5187.

Comments Due: 5 p.m. ET 9/20/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 31, 2012.
Nathaniel J. Davis, Sr.,
Deputy Secretary.

[FR Doc. 2012-22678 Filed 9-13-12; 8:45 am]

BILLING CODE 6717-01-P